FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201333.

Agreement Name: North Carolina-Virginia Port Terminal Cooperative Working Agreement.

Parties: North Carolina State Port Authority; Virginia Port Authority; and Virginia International Terminals, LLC.

Filing Party: David Monroe; GKG Law.

Synopsis: The Agreement authorizes the parties to discuss and agree on matters relating to their respective operations, and joint or cooperative operations at common-use facilities, including inland intermodal facilities. The parties request expedited review.

Proposed Effective Date: 4/9/2020.

Location: https://www2.fmc.gov/FMC.Agreements.Web/Public/AgreementHistory/27474.

Dated: February 25, 2020.
Rachel Dickon,
Secretary.

[FR Doc. 2020-04090 Filed 2-27-20; 8:45 am]

BILLING CODE 6731-AA-P